DEPARTMENT OF HEALTH AND HUMAN SERVICES

Administration for Children and Families

Submission for OMB Review; Comment Request

Title: Adoption and Foster Care Analysis and Reporting System for title IV-B and title IV-E.

OMB No.: 0980-0267.

Description: Section 479 of title IV-E of the Social Security Act directs States to establish and implement an adoption and foster care reporting system. The data are used for a number of purposes, including responding to Congressional requests for current data on children in foster care or those who have been adopted; responding to questions and requests from other Federal departments and agencies; trend analyses and short and long-term planning; targeting areas for greater or potential technical assistance efforts; and determining and assessing outcomes for children and families.

Respondents: States, District of Columbia and Puerto Rico.

Annual Burden Estimates

Instrument | Number of respondents | Number of responses per respondent | Average burden hours per response | Total burden hours
AFCARS (Electronic Format) | 52 | 2 | 3,316 | 344,864

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 10, 2003.
Robert Sargis,
Reports Clearance Officer.

[FR Doc. 03-6150 Filed 3-13-03; 8:45 am]

BILLING CODE 4184-01-M